FEDERAL COMMUNICATIONS COMMISSION

47 CFR Part 73

[FCC 06-119; MM Docket No. 01-11; RM-10027; RM-10322]

Radio Broadcasting Services; Arcadia, Desert Hot Springs, Fallbrook, Murrieta, and Yucca Valley, CA

AGENCY: Federal Communications Commission.

ACTION: Final rule; denial of application for review.

SUMMARY: The Commission denied an application for review filed by the licensee of Stations KSSE(FM), Arcadia, CA, and KSSD(FM), Fallbrook, CA, of a Report and Order in this proceeding, which had denied its rulemaking petition to upgrade the class of Station KSSE(FM) from Channel 296A to Channel 296B1. The Commission determined that the rulemaking proposal could not be implemented because the licensee of Station KDGL(FM), Yucca Valley, CA, had withdrawn its consent to a downgrade in channel class and a site relocation, which is necessary to effectuate the upgrade. See SUPPLEMENTARY INFORMATION.

FOR FURTHER INFORMATION CONTACT: Andrew J. Rhodes, Media Bureau, (202) 418-2180.

SUPPLEMENTARY INFORMATION: This is a synopsis of the Commission's Memorandum Opinion and Order, MM Docket No. 01-11, adopted August 10, 2006, and released August 17, 2006. The full text of this Commission decision is available for inspection and copying during normal business hours in the FCC Reference Information Center (Room CY-A257), 445 12th Street, SW., Washington, DC 20554. The complete text of this decision may also be purchased from the Commission's copy contractor, Best Copy and Printing, Inc., Portals II, 445 12th Street, SW., Room CY-B402, Washington, DC 20554, telephone 1-800-378-3160 or http://www.BCPIWEB.com.

The Commission also clarified the scope of permissible facility changes for pre-1964, grandfathered short-spaced stations under Section 73.213(a)(4) such as KSSE(FM). Although these stations are exempt from the second-adjacent and third-adjacent channel separation requirements set forth in Section 73.207, they are not permitted to upgrade their facilities beyond class maximums. See 67 FR 65721 (October 28, 2002).

This document is not subject to the Congressional Review Act. (The Commission, is, therefore, not required to submit a copy of this Memorandum Opinion and Order to GAO, pursuant to the Congressional Review Act, see 5 U.S.C. 801(a)(1)(A) because the application for review was denied.)

Federal Communications Commission.
Marlene H. Dortch,
Secretary.

[FR Doc. E6-15533 Filed 9-19-06; 8:45 am]

BILLING CODE 6712-01-P